DEPARTMENT OF ENERGY

Federal Energy Regulatory Commission

[Docket No. RM05-30-000]

Rules Concerning Certification of the Electric Reliability Organization; and Procedures for the Establishment, Approval and Enforcement of Electric Reliability Standards; Notice of Availability of Filing

May 31, 2007.

Take notice that, on May 29, 2007, the North American Electric Reliability Corporation (NERC) filed with the Commission its 2007 Summer Reliability Assessment report for the time period of June 2007 through September 2007.

Section 39.11 of the Commission's regulations provides that the Electric Reliability Organization (ERO) shall conduct assessments of, among other things, the adequacy of the Bulk-Power System in North America and report its findings to the Commission, the Secretary of Energy, each Regional Entity, and each Regional Advisory Body annually or more frequently if so ordered by the Commission.

This assessment is filed under Docket No. RM05-30-000 and is accessible on-line at http://www.ferc.gov, using the “eLibrary” link and is available for review in the Commission's Public Reference Room. For assistance with any FERC Online service, please e-mail FERCOnlineSupport@ferc.gov, or call (866) 208-3676 (toll free). For TTY, call (202) 502-8659.

Kimberly D. Bose,
Secretary.

[FR Doc. E7-10841 Filed 6-5-07; 8:45 am]

BILLING CODE 6717-01-P